DEPARTMENT OF ENERGY

Federal Energy Regulatory Commission

Combined Notice of Filings #1

May 27, 2010.

Take notice that the Commission received the following electric rate filings:

Docket Numbers: ER00-2885-024; ER07-1356-010; ER07-1112-008; ER07-1113-008; ER07-1116-007; ER07-1117-009; ER07-1358-009; ER07-1118-009; ER01-2765-023; ER09-609-001; ER09-1141-008; ER05-1232-018; ER09-335-004; ER02-2102-018

Applicants: J.P. Morgan Ventures Energy Corporation, BE Allegheny LLC, BE CA LLC, BE Ironwood LLC, BE KJ LLC, BE Rayle LLC, BE Alabama LLC, BE Louisiana LLC, Cedar Brakes I, L.L.C., Mohawk River Funding IV, L.L.C., Utility Contract Funding, L.L.C., Vineland Energy LLC, Central Power & Lime LLC, Cedar Brakes II, L.L.C.

Description: JPMorgan Sellers submit Supplement to Notice of Non-Material Change in Status.

Filed Date: 05/26/2010

Accession Number: 20100526-5165

Comment Date: 5 p.m. Eastern Time on Wednesday, June 16, 2010

Docket Numbers: ER00-2885-025; ER07-1356-011; ER07-1112-009; ER07-1113-009; ER07-1116-008; ER07-1117-011; ER07-1358-010; ER07-1118-010; ER01-2765-024; ER09-609-002; ER09-1141-003; ER05-1232-020; ER09-335-006; ER02-2102-024; ER03-1283-019

Applicants: J.P. Morgan Ventures Energy Corporation, BE Allegheny LLC, BE CA LLC, BE Ironwood LLC, BE KJ LLC, BE Alabama LLC, BE Louisiana LLC, Cedar Brakes I, L.L.C., Utility Contract Funding, L.L.C., Vineland Energy LLC, Central Power & Lime LLC, Cedar Brakes II, L.L.C., J.P. Morgan Commodities Canada Corporation, BE Rayle LLC

Description: JP Morgan Sellers submit Supplement to Notice of Non-Material Change in Status.

Filed Date: 05/26/2010

Accession Number: 20100526-5164

Comment Date: 5 p.m. Eastern Time on Wednesday, June 16, 2010

Docket Numbers: ER00-2885-026; ER07-1356-012; ER07-1112-010; ER07-1113-010; ER07-1116-009; ER07-1117-012; ER07-1358-011; ER07-1118-011; ER01-2765-025; ER09-609-003; ER09-1141-005; ER05-1232-021; ER09-335-007; ER02-2102-025; ER03-1283-020

Applicants: J.P. Morgan Ventures Energy Corporation, BE Allegheny LLC, BE CA LLC, BE Ironwood LLC, BE KJ LLC, BE Alabama LLC, BE Louisiana LLC, Cedar Brakes I, L.L.C., Utility Contract Funding, L.L.C., Vineland Energy LLC, Central Power & Lime LLC, Cedar Brakes II, L.L.C., J.P. Morgan Commodities Canada Corporation, BE Rayle LLC

Description: JPMorgan Sellers submit Supplement to Notice of Non-Material Change in Status.

Filed Date: 05/26/2010

Accession Number: 20100526-5166

Comment Date: 5 p.m. Eastern Time on Wednesday, June 16, 2010

Docket Numbers: ER00-2885-030; ER07-1356-015; ER07-1112-013; ER07-1113-013; ER07-1116-012; ER07-1117-015; ER07-1358-016; ER07-1118-014; ER01-2765-029; ER09-609-006; ER09-1141-009; ER05-1232-026; ER02-2102-029; ER03-1283-023

Applicants: J.P. Morgan Ventures Energy Corporation, BE Allegheny LLC, BE CA LLC, BE Ironwood LLC, BE KJ LLC, BE Rayle LLC, BE Alabama LLC, BE Louisiana LLC, Cedar Brakes I, L.L.C., Utility Contract Funding, L.L.C., Vineland Energy LLC, Central Power & Lime LLC, Cedar Brakes II, L.L.C., J.P. Morgan Commodities Canada Corporation

Description: JPMorgan Sellers submit Notice of Non-Material Change in Status.

Filed Date: 05/26/2010

Accession Number: 20100526-5162

Comment Date: 5 p.m. Eastern Time on Wednesday, June 16, 2010

Docket Numbers: ER10-468-003

Applicants: Google Energy LLC

Description: Google Energy LLC's Notice of Non-Material Change in Status.

Filed Date: 05/27/2010

Accession Number: 20100527-5074

Comment Date: 5 p.m. Eastern Time on Thursday, June 17, 2010

Docket Numbers: ER10-893-001

Applicants: PJM Interconnection, L.L.C.

Description: PJM Interconnection, LLC submits the revised Open Access Tariff.

Filed Date: 05/27/2010

Accession Number: 20100527-0165

Comment Date: 5 p.m. Eastern Time on Thursday, June 17, 2010

Docket Numbers: ER10-1160-001

Applicants: Southwest Power Pool, Inc.

Description: Southwest Power Pool, Inc submits letter requesting that the Commission accept the cancellation of the Flatlands LGIA, effective 7/28/10.

Filed Date: 05/26/2010

Accession Number: 20100527-0337

Comment Date: 5 p.m. Eastern Time on Wednesday, June 16, 2010

Docket Numbers: ER10-1323-000

Applicants: RRI Energy West, Inc.

Description: RRI Energy West, Inc submits Notice of Succession.

Filed Date: 05/26/2010

Accession Number: 20100525-0275

Comment Date: 5 p.m. Eastern Time on Wednesday, June 16, 2010

Docket Numbers: ER10-1324-000

Applicants: CinCap IV, LLC

Description: CinCap IV, LLC submits tariff filing per 35.12: Rate Schedule No. 1 Baseline Filing to be effective 5/27/2010.

Filed Date: 05/27/2010

Accession Number: 20100527-5018

Comment Date: 5 p.m. Eastern Time on Thursday, June 17, 2010

Docket Numbers: ER10-1325-000

Applicants: CinCap V, LLC

Description: CinCap V, LLC submits tariff filing per 35.12: Rate Schedule No. 1 Baseline Filing to be effective 5/27/2010.

Filed Date: 05/27/2010

Accession Number: 20100527-5021

Comment Date: 5 p.m. Eastern Time on Thursday, June 17, 2010

Docket Numbers: ER10-1326-000

Applicants: Cinergy Power Investments, Inc.

Description: Cinergy Power Investments, Inc. submits tariff filing per 35.12: Tariff Volume No. 1 Baseline Filing to be effective 5/27/2010.

Filed Date: 05/27/2010

Accession Number: 20100527-5022

Comment Date: 5 p.m. Eastern Time on Thursday, June 17, 2010

Docket Numbers: ER10-1327-000

Applicants: Southwest Power Pool, Inc.

Description: Southwest Power Pool, Inc submits an amended Service Agreement for Network Integration Transmission Service.

Filed Date: 05/26/2010

Accession Number: 20100527-0338

Comment Date: 5 p.m. Eastern Time on Wednesday, June 16, 2010

Docket Numbers: ER10-1328-000

Applicants: Happy Jack Windpower, LLC

Description: Happy Jack Windpower, LLC submits tariff filing per 35.12: Tariff Volume No. 1 Baseline Filing to be effective 5/27/2010.

Filed Date: 05/27/2010

Accession Number: 20100527-5023

Comment Date: 5 p.m. Eastern Time on Thursday, June 17, 2010

Docket Numbers: ER10-1329-000

Applicants: St. Paul Cogeneration, LLC

Description: St. Paul Cogeneration, LLC submits tariff filing per 35.12: Tariff Volume No. 1 Baseline Filing to be effective 5/27/2010.

Filed Date: 05/27/2010

Accession Number: 20100527-5024

Comment Date: 5 p.m. Eastern Time on Thursday, June 17, 2010

Docket Numbers: ER10-1330-000

Applicants: North Allegheny Wind, LLC

Description: North Allegheny Wind, LLC submits tariff filing per 35.12: Tariff Volume No. 1 Baseline Filing, to be effective 5/27/10.

Filed Date: 05/27/2010

Accession Number: 20100527-5025

Comment Date: 5 p.m. Eastern Time on Thursday, June 17, 2010

Docket Numbers: ER10-1331-000

Applicants: Silver Sage Windpower, LLC

Description: Silver Sage Windpower, LLC submits tariff filing per 35.12: Tariff Volume No. 1 Baseline Filing to be effective 5/27/2010.

Filed Date: 05/27/2010

Accession Number: 20100527-5026

Comment Date: 5 p.m. Eastern Time on Thursday, June 17, 2010

Docket Numbers: ER10-1332-000

Applicants: Three Buttes Windpower, LLC

Description: Three Buttes Windpower, LLC submits tariff filing per 35.12: Tariff Volume No. 1 Baseline Filing to be effective 5/27/2010.

Filed Date: 05/27/2010

Accession Number: 20100527-5027

Comment Date: 5 p.m. Eastern Time on Thursday, June 17, 2010

Docket Numbers: ER10-1333-000

Applicants: Duke Energy Commercial Enterprises, Inc.

Description: Duke Energy Commercial Enterprises, Inc. submits tariff filing per 35.12: Rate Schedule No. 1 Baseline Filing to be effective 5/27/2010.

Filed Date: 05/27/2010

Accession Number: 20100527-5028

Comment Date: 5 p.m. Eastern Time on Thursday, June 17, 2010

Docket Numbers: ER10-1334-000

Applicants: Duke Energy Trading and Marketing, L.L.C.

Description: Duke Energy Trading and Marketing, L.L.C. submits tariff filing per 35.12: Tariff Volume No. 1 Baseline Filing to be effective 5/27/2010.

Filed Date: 05/27/2010

Accession Number: 20100527-5029

Comment Date: 5 p.m. Eastern Time on Thursday, June 17, 2010

Docket Numbers: ER10-1335-000

Applicants: Duke Energy Retail Sales, LLC

Description: Duke Energy Retail Sales, LLC submits tariff filing per 35.12: Tariff Volume No. 1 Baseline Filing to be effective 5/27/2010.

Filed Date: 05/27/2010

Accession Number: 20100527-5031

Comment Date: 5 p.m. Eastern Time on Thursday, June 17, 2010

Docket Numbers: ER10-1336-000

Applicants: Virginia Electric and Power Company

Description: Virginia Electric and Power Company submits an executed Service Agreement for Wholesale Distribution Service with WM Renewable Energy, LLC.

Filed Date: 05/27/2010

Accession Number: 20100527-0150

Comment Date: 5 p.m. Eastern Time on Thursday, June 17, 2010

Docket Numbers: ER10-1337-000

Applicants: Premier Energy Marketing L.L.C.

Description: Petition for acceptance of initial tariff, waivers and blanket authority re Premier Energy Services, LLC.

Filed Date: 05/27/2010

Accession Number: 20100527-0151

Comment Date: 5 p.m. Eastern Time on Thursday, June 17, 2010

Docket Numbers: ER10-1338-000

Applicants: Southern Indiana Gas and Electric Company

Description: Southern Indiana Gas and Electric Company, Inc. submits tariff filing per 35.12: SIGECO Market-Based Rate Tariff Baseline Filing to be effective 5/27/2010.

Filed Date: 05/27/2010

Accession Number: 20100527-5087

Comment Date: 5 p.m. Eastern Time on Thursday, June 17, 2010

Docket Numbers: ER10-1339-000

Applicants: Southern Indiana Gas and Electric Company

Description: Southern Indiana Gas and Electric Company, Inc. submits tariff filing per 35.12: SIGECO Ancillary Services Tariff Baseline Filing to be effective 5/27/2010.

Filed Date: 05/27/2010

Accession Number: 20100527-5097

Comment Date: 5 p.m. Eastern Time on Thursday, June 17, 2010

Docket Numbers: ER10-1340-000

Applicants: El Paso Electric Company

Description: El Paso Electric Company submits the First Revised Sheet 13 to the First Revised Rate Schedule 80.

Filed Date: 05/27/2010

Accession Number: 20100527-0166

Comment Date: 5 p.m. Eastern Time on Thursday, June 17, 2010

Docket Numbers: ER10-1341-000

Applicants: Southern California Edison Company

Description: Southern California Edison Company submits a letter agreement with Abengoa Solar Inc.

Filed Date: 05/27/2010

Accession Number: 20100527-0167

Comment Date: 5 p.m. Eastern Time on Thursday, June 17, 2010

Docket Numbers: ER10-1342-000

Applicants: CP Energy Marketing (US) Inc.

Description: CP Energy Marketing (US) Inc. submits tariff filing per 35.12: CP Energy Marketing (US) Inc. Baseline Filing to be effective 5/27/2010.

Filed Date: 05/27/2010

Accession Number: 20100527-5134

Comment Date: 5 p.m. Eastern Time on Thursday, June 17, 2010

Docket Numbers: ER10-1343-000

Applicants: CPI Energy Services (US) LLC

Description: CPI Energy Services (US) LLC submits tariff filing per 35.12: CPI Energy Services (US) LLC Baseline Filing to be effective 5/27/2010.

Filed Date: 05/27/2010

Accession Number: 20100527-5143

Comment Date: 5 p.m. Eastern Time on Thursday, June 17, 2010

Docket Numbers: ER10-1344-000

Applicants: CPI USA North Carolina LLC

Description: CPI USA North Carolina LLC submits tariff filing per 35.12: CPI USA North Carolina LLC Baseline Filing to be effective 5/27/2010.

Filed Date: 05/27/2010

Accession Number: 20100527-5148

Comment Date: 5 p.m. Eastern Time on Thursday, June 17, 2010

Docket Numbers: ER10-1345-000

Applicants: CPIDC, Inc.

Description: CPIDC, Inc. submits tariff filing per 35.12: CPIDC, Inc. Baseline Tariff Filing to be effective 5/27/2010.

Filed Date: 05/27/2010

Accession Number: 20100527-5152

Comment Date: 5 p.m. Eastern Time on Thursday, June 17, 2010

Docket Numbers: ER10-1346-000

Applicants: Frederickson Power L.P.

Description: Frederickson Power L.P. submits tariff filing per 35.12: Frederickson Power L.P. Baseline Filing to be effective 5/27/2010.

Filed Date: 05/27/2010

Accession Number: 20100527-5155

Comment Date: 5 p.m. Eastern Time on Thursday, June 17, 2010

Docket Numbers: ER10-1348-000

Applicants: Manchief Power Company LLC

Description: Manchief Power Company LLC submits tariff filing per 35.12: Manchief Power Company LLC Baseline Filing to be effective 5/27/2010.

Filed Date: 05/27/2010

Accession Number: 20100527-5167

Comment Date: 5 p.m. Eastern Time on Thursday, June 17, 2010

Take notice that the Commission received the following electric securities filings:

Docket Numbers: ES10-29-000

Applicants: Ameren Corporation

Description: Ameren Corporation submits its response to FERC Staff Data Requests.

Filed Date: 05/26/2010

Accession Number: 20100526-5167

Comment Date: 5 p.m. Eastern Time on Monday, June 7, 2010

Docket Numbers: ES10-37-000

Applicants: Old Dominion Electric Cooperative, Inc.

Description: Amendment to Application of Old Dominion Electric Cooperative.

Filed Date: 05/26/2010

Accession Number: 20100526-5131

Comment Date: 5 p.m. Eastern Time on Monday, June 7, 2010

Docket Numbers: ES10-46-000

Applicants: Golden Spread Electric Cooperative, Inc.

Description: Application of Golden Spread Electric Cooperative, Inc. for Authorization to Issue Securities Pursuant to Section 204 of the Federal Power Act.

Filed Date: 05/27/2010

Accession Number: 20100527-5036

Comment Date: 5 p.m. Eastern Time on Thursday, June 17, 2010

Take notice that the Commission received the following open access transmission tariff filings:

Docket Numbers: OA08-26-004

Applicants: Puget Sound Energy, Inc.

Description: Puget Sound Energy, Inc submits Order No. 890 Attachment K Compliance Filing.

Filed Date: 03/12/2010

Accession Number: 20100312-5122

Comment Date: 5 p.m. Eastern Time on Monday, June 7, 2010

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-13630 Filed 6-7-10; 8:45 am]

BILLING CODE 6717-01-P